DEPARTMENT OF AGRICULTURE

Forest Service

Inyo National Forest, California, Inyo National Forest Motorized Travel Management EIS

AGENCY: Forest Service, USDA.

ACTION: Notice of intent to prepare an Environmental Impact Statement.

SUMMARY: The Inyo National Forest (INF) will prepare an Environmental Impact Statement to disclose the impacts associated with the following proposed actions: 1. The prohibition of wheeled motorized vehicle travel off designated National Forest System (NFS) roads, NFS trails and areas by the public except as allowed by permit or other authorization. 2. Changes in the INF Transportation System, including the addition of approximately 925 miles of existing unauthorized (non-system) routes to the current system of National Forest System (NFS) roads and motorized trails and minor changes to existing motor vehicle restrictions.

DATES: The comment period on the proposed action will extend 45 days from the date the Notice of Intent is published in the Federal Register. Completion of the Draft Environmental Impact Statement (DEIS) is expected in March 2008 and the Final Environmental Impact Statement (FEIS) is expected in October 2008.

ADDRESSES: Send written comments to: Travel Management Team, Inyo National Forest, 351 Pacu Lane, Suite 200, Bishop, CA, 93514. Comments may also be mailed electronically to: comments-pacificsouthwest-inyo@fs.fed.us. Please ensure that “Route Designation” occurs somewhere in the subject line.

FOR FURTHER INFORMATION CONTACT: Marty Hornick, Inyo National Forest, 351 Pacu Lane, Suite 200, Bishop, CA, 93514. Phone: (760) 873-2400. E-mail: comments-pacificsouthwest-inyo@fs.fed.us.

SUPPLEMENTARY INFORMATION:

Background

Over the past few decades, the availability and capability of motorized vehicles, particularly off-highway vehicles (OHVs) and sport utility vehicles (SUVs) has increased tremendously. Nationally, the number of OHV users has climbed sevenfold in the past 30 years, from approximately 5 million in 1972 to 36 million in 2000. California is experiencing the highest level of OHV use of any state in the nation. There were 786,914 ATVs and OHV motorcycles in California were the highest in the U.S. for the last 5 years. Four-wheel drive vehicle sales in California also increased by 1500% to 3,046,866 from 1989 to 2002.

Unmanaged OHV use has resulted in unplanned roads and trails, erosion, watershed and habitat degradation, and impacts to cultural resource sites. Compaction and erosion are the primary effects of OHV use on soils. Riparian areas and aquatic dependent species are particularly vulnerable to OHV use. Unmanaged recreation, including impacts from OHVs, os one of “Four Key Threats Facing the Nation's Forests and Grasslands.”

(USDA Forest Service, June 2004).

On August 11, 2003, the Pacific Southwest Region of the Forest Service entered into a Memorandum of Intent (MOI) with the California Off-Highway Motor Vehicle Recreation Commission, and the Off-Highway Motor Vehicle Recreation Division of the California Department of Parks and Recreation. That MOI set in motion a region-wide effort to “Designate OHV roads, trails, and any specifically defined open areas for motorized wheeled vehicles on maps of the 19 National Forests in California by 2007.” On November 9, 2005, the Forest Service published final travel management regulations in the Federal Register (FR Vol. 70, No. 216-Nov. 9, 2005, pp 68264-68291). This final Travel Management Rule requires designation of those roads, trails, and areas that are open to motor vehicle use on National Forests. Designations will be made by class of vehicle and, if appropriate, by time of year. The final rule prohibits the use of motor vehicles off the designated system as well as use of motor vehicles on routes and in areas that are not designated.

On some NFS lands, long managed as open to cross-country motor vehicle travel, repeated use has resulted in unplanned, unauthorized, roads and trails. These routes generally developed without environmental analysis or public involvement, and do not have the same status as NFS roads and NFS trails included in the forest transportation system. Nevertheless, some unauthorized routes are well-sited, provide excellent opportunities for outdoor recreation by motorized and non-motorized users, and would enhance the National Forest system of designated roads, trails and areas. Other unauthorized routes are poorly located and cause unacceptable impacts. Only NFS roads and NFS trails can be designated for wheeled motorized vehicle use. In order for an unauthorized route to be designated, it must first be added to the forest transportation system.

In accordance with the MOI, the INF recently completed an inventory of unauthorized routes on NFS lands and identified approximately 1830 miles of unauthorized routes. The INF then used an interdisciplinary process to conduct travel analysis that included working with the public to determine whether any of the unauthorized routes should be proposed for addition to the INF transportation system. Roads, trails and areas that are currently part of the INF transportation system and are open to wheeled motorized vehicle travel will remain designated for such use except as described below under Proposed Action. This proposal focuses only on the prohibition of wheeled motorized vehicle travel off designated routes and needed changes to the INF transportation system. These changes include minor changes to existing motor vehicle restrictions and the addition to the INF transportation system of some existing unauthorized routes that provide access to dispersed recreation opportunities and a diversity of motorized recreation opportunities. The proposed action is being carried forward in accordance with the Travel Management Rule (36 CFR Part 212).

In accordance with the rule, following a decision on this proposal, the Inyo National Forest will publish a Motor Vehicle Use Map (MVUM) identifying all INF roads, trails and areas that are designated for motor vehicle use. The MVUM shall specify the classes of vehicles and, if appropriate, the times of year for which use is designated.

Purpose and Need for Action

The following needs have been identified for this proposal:

1. There is a need for regulation of unmanaged wheeled motorized vehicle travel by the public. In their enjoyment of the National Forest, motorized vehicle users have created numerous unauthorized routes. The number of such routes continues to grow each year with many routes having environmental impacts and safety concerns that have not been addressed. Currently, motor vehicle use is restricted by a 2007 Temporary Forest Order which limits the use of wheeled motorized vehicles by the public to existing routes shown on the forest order exhibit map. This includes routes that are currently on the INF transportation system, as well as others which have not yet been evaluated for suitability for continued motorized use.

The Travel Management Rule, 36 CFR Part 212, provides policy for ending the trend of unauthorized route proliferation and managing the Forest transportation system in a sustainable manner through designation of motorized NFS roads, trails and areas, and the prohibition of cross-country travel.

2. There is a need for limited changes and additions to the INF transportation system to:

2.1. Provide wheeled motorized access to dispersed recreation opportunities, such as camping, hunting, fishing, hiking, horseback riding and others

2.2. Provide a diversity of wheeled motorized recreational opportunities, such as travel in 4X4 vehicles, motorcycles, ATVs, passenger vehicles, etc.

It is Forest Service policy to provide a diversity of road and trail opportunities for experiencing a variety of environments and modes of travel consistent with the National Forest recreation role and land capability (FSM 2353.03(2)).

In meeting these needs the proposed action must also achieve the following purposes:

A. Avoid impacts to cultural resources.

B. Provide for public safety.

C. Provide for a diversity of recreational opportunities.

D. Assure adequate access to public and private lands.

E. Provide for adequate maintenance and administration of designations based on availability of resources and funding to do so.

F. Minimize damage to soil, vegetation and other forest resources.

G. Avoid harassment of wildlife and significant disruption of wildlife habitat.

H. Minimize conflicts between wheeled motor vehicles and existing or proposed recreational uses of NFS lands.

I. Minimize conflicts among different classses of wheeled motor vehicle uses of NFS lands or neighboring federal lands.

J. Assure compatibility of wheeled motor vehicle use with existing conditions in populated areas, taking into account sound, emisions, etc.

K. Have valid existing rights of use and access (rights-of-way).

Proposed Action

1. Prohibition of wheeled motorized vehicle travel off the designated NFS roads, NFS trails and areas by the public except as allowed by permit or other authorization.

2. Additions to the National Forest Transportation System—The Inyo National Forest curerntly manages and maintains approximately 1240 miles of NFS roads within Inyo National Forest boundaries. Based on the stated purpose and need for action, and as a result of the recent travel analysis process, the INF proposes the addition of approximately 870 miles of unauthorized routes to its NFS roads, which will be open to all vehicles types, and 53 miles to its NFS motorized trails, of which approximately 16 miles will be open to motorcycle only, and 37 miles will be open to motorcycles and ATVs (<50″ width). Approximately 3 miles of the unauthorized routes proposed will be available for public motorized use only after mitigation measures have been completed, such as stabilization or reroutes away from areas of resource concern.

3. Limited Changes to the National Forest Transportation System—The INF proposes the conversion of 11 miles of NFS roads to NFS motorized trails. Approximately 4 miles will be limited to motorcycle use only; and 7 miles will be open only to motorcycles and ATVs less than 50″ in width.

Maps and tables describing the proposed action can found at: http://www.fs.fed.us/r5/inyo/projects/ohvroute5.shtml.

In addition, maps will be available for viewing at:

Inyo National Forest Supervisor's Office, 351 Pacu Lane, Bishop, CA

Eastern Sierra Interagency Visitor Center, Junction Hwy 395 & SR 136 (1 mile south of Lone Pine, CA)

Mammoth Welcome Center, Hwy 203 east of the Town of Mammoth Lakes, CA

Mono Basin Scenic Area Visitor Center, Hwy 395, Lee Vining, CA

Responsible Official

Marlene Finley, Acting Forest Supervisor, 351 Pacu Lane, Suite 200, Bishop, CA 93514

Nature of Decision To Be Made

The responsible official will decide whether to adopt and implement the proposed action, an alternative to the proposed action, or take no action to make changes to the existing Inyo National Forest Transportation System and prohibit cross country wheeled motorized vehicle travel by the public off the designated system. Once the decision is made, the Inyo National Forest will publish a Motor Vehicle Use Map (MVUM) identifying the roads, trails and areas that are designated for motor vehicle use. The MVUM shall specify the classes of vehicles and, if appropriate, the times of year for which use is designated.

Scoping Process

Public participation will be especially important at several points during the analysis. The Forest Service will be seeking information, comments, and assistance from the federal, state, and local agencies and other individuals or organizations who may be interested in or affected by the proposed action.

The Notice of Intent is expected to be published in the Federal Register on October 1, 2007. The common period on the proposed action will extend 45 days from the date the Notice of Intent is published in the Federal Register.

The draft environmental impact statement is expected to be filed with the Environmental Protection Agency (EPA) and to be available for public review in March 2008. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Inyo National Forest participate at that time.

The final EIS is scheduled to be completed in October 2008. In the final EIS, the Forest Service will respond to comments received during the 45-day comment period that pertain to the environmental consequences discussed in the draft EIS and applicable laws, regulations, and policies considered in making the decision. Submission of comments in response to the draft EIS is a prerequisite for eligibility to appeal under the 36 CFR part 215 regulations.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the

To assist Forest Service in identifying and considering issues and concerns on the proposed action, comments on the draft environmental impact statement should be as specific as possible. It is helpful if the comments refer to specific pages or chapters of the draft environmental impact statement. Comments may also address the adequacy for the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority; 40 CFR 1501.7 and 1508.22; Forest Service Handbook 1909.15, Section 21)

Dated: September 24, 2007.
Marlene Finley,
Acting Forest Supervisor, Inyo National Forest.

[FR Doc. 07-4774 Filed 9-28-07; 8:45 am]

BILLING CODE 3410-11-M